ENVIRONMENTAL PROTECTION AGENCY

40 CFR Part 180

[EPA-HQ-OPP-2020-0053; FRL-10013-78]

Receipt of a Pesticide Petition Filed for Residues of Pesticide Chemicals in or on Various Commodities (July 2020)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before October 13, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Marietta Echeverria, Registration Division (7505P), main telephone number: (703) 305-7090, email address: RDFRNotices@epa.gov. The mailing address is: Office of Pesticide Programs, Environmental Protection Agency, 1200 Pennsylvania Ave. NW, Washington, DC 20460-0001. As part of the mailing address, include the contact's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 174 and/or part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerance Exemptions for Inerts (Except PIPS)

PP IN-11369. (EPA-HQ-OPP-2020-0349) Valagro S.p.A., c/o SciReg, Inc., 12733 Director's Loop, Woodbridge, VA 22192, requests to establish an exemption from the requirement of a tolerance for residues of potassium acetate (CAS Reg. No. 127-08-2), when used as an inert ingredient (nutrient) in pesticide formulations under 40 CFR 180.920. The petitioner believes no analytical method is needed because it is not required for an exemption from the requirement of a tolerance. Contact: RD

New Tolerance for Non-Inerts

1. PP 0E8832. (EPA-HQ-OPP-2020-0347). The Interregional Research Project #4 (IR-4), Rutgers, The State University of New Jersey, 500 College Road East, Suite 201W, Princeton, NJ 08540, requests to establish a tolerance in 40 CFR 180.499 for residues of the fungicide propamocarb, propyl N-[3-(dimethylamino)propyl]carbamate, in or on vegetable, Brassica, head and stem, group 5-16 at 15 parts per million (ppm). An adequate gas chromatography/nitrogen-phosphorus detection (GC/NPD) method is available for enforcing the proposed tolerance. Contact: RD

2. PP 0E8834. EPA-HQ-OPP-2020-0345. American Spice Trade Association, Inc., 1101 17th St. NW, Suite 700, Washington, DC 20036, requests to establish a tolerance in 40 CFR part 180 for residues of the fungicide, difenoconazole, in or on pepper, black at 0.1 ppm. Liquid chromatography (LC)/mass spectrometry (MS)/(MS) is used to measure and evaluate the chemical difenoconazole (1 [2-[2-chloro-4-(4-chlorophenoxy)]phenyl-4-methyl-1,3- dioxolan-2-ylmethyl]-1H-1,2,4,-triazole). Contact: RD.

3. PP 9E8792. EPA-HQ-OPP-2020-0038. Bayer CropScience, 800 N. Lindbergh Blvd., St. Louis, MO 63141, requests to establish import tolerances in 40 CFR part 180 for residues of the fungicide trifloxystrobin in or on the raw agricultural commodities: Caneberry, cop Subgroup 13-07A at 3.0 ppm; Currant, black and red, at 4.0 ppm; edible-podded legume vegetables, crop subgroup 6A, at 1.5 ppm; oil, olive, refined at 0.5 ppm; pea, dry, seed at 0.2 ppm; succulent shelled pea and bean, crop subgroup 6B at 0.15 ppm; and tropical and subtropical, small fruit, edible peel, crop subgroup 23A at 0.2 ppm. The analytical methodology column liquid chromatography-mass spectrometry-mass spectrometry (LC/MS-MS) with an electro spray interface, operated in the positive ion mode is used to measure and evaluate the chemical trifloxystrobin (benzeneacetic acid, (E,E)-α-(methoxyimino)-2-[[[[1-[3- (trifluoromethyl) phe-nyl]ethylidene]amino]oxy]methyl]-methyl ester) and the free form of its acid metabolite CGA-321113 ((E,E)-methoxyimino-[2-[1-(3- trifluoromethyl-phenyl)-ethylideneaminooxymethyl]-phenyl]acetic acid)]. Contact: RD.

4. PP 9F8815. EPA-HQ-OPP-2020-0226. Nichino America, Inc., 4550 Linden Hill Rd., Suite 501, Wilmington, DE 19808, requests to establish tolerance in 40 CFR part 180 for residues of the fungicide pyraziflumid; N-(3′,4′-difluoro[1,1′-biphenyl]-2-yl)-3-(trifluoromethyl)-2-pyrazinecarboxamide in or on the following raw agricultural commodities: almond hulls at 5 parts per million (ppm); apple wet pomace at 0.6 ppm; bushberry (crop subgroup 13-07B) at 7.0 ppm; caneberry (crop subgroup 13-07A) at 4.0 ppm; cattle, fat at 0.01 ppm; cattle, meat at 0.01 ppm; cattle, meat byproducts at 0.01 ppm; goat, fat at 0.01 ppm; goat, meat byproducts at 0.01 ppm; goat, meat at 0.01 ppm; horse, fat at 0.01 ppm; horse, meat byproducts at 0.01 ppm; horse, meat at 0.01 ppm; milk at 0.01 ppm; pome fruit (crop group 11-10) at 0.4 ppm; raisins at 1.6 ppm; sheep, fat at 0.01 ppm; sheep meat at 0.01 ppm; sheep, meat byproducts at 0.01 ppm; small fruit vine climbing subgroup, except fuzzy kiwifruit (crop subgroup 13-07F) at 1.5 ppm; stone fruit (crop group 12-12) at 2.0 ppm; and tree nuts (crop group 14-12) at 0.03 ppm. The independent validation method of HPLC-MS/MS was used for the analysis of pyraziflumid and the metabolite BC-01 in raw agricultural commodities (RAC) and processed commodities (PC) to measure and evaluate the chemical pyraziflumid. Contact: RD.

5. PP 9F8818. (EPA-HQ-OPP-2020-0202). BASF Corporation, 26 Davis Drive, Research Triangle Park, NC 27709, requests to establish tolerances in 40 CFR part 180 for residues of the herbicide, isoxaflutole, in or on cottonseed at 0.02 ppm and cotton gin byproducts at 0.02 ppm. Tandem mass spectrometry (LC/MS/MS) is used to measure and evaluate the chemical isoxaflutole. Contact: RD.

Authority: 21 U.S.C. 346a.

Dated: August 25, 2020.
Hamaad Syed,
Acting Director, Information Technology and Resources Management Division, Office of Pesticide Programs.

[FR Doc. 2020-18958 Filed 9-9-20; 8:45 am]

BILLING CODE 6560-50-P